DEPARTMENT OF HEALTH AND HUMAN SERVICES

Meeting of the Presidential Advisory Council on HIV/AIDS

AGENCY: Department of Health and Human Services, Office of the Secretary, Office of the Assistant Secretary for Health.

ACTION: Notice.

SUMMARY: As stipulated by the Federal Advisory Committee Act, the U.S. Department of Health and Human Service (DHHS) is hereby giving notice that the Presidential Advisory Council on HIV/AIDS (PACHA) will hold a meeting. The meeting will be open to the public.

DATES: The meeting will be held Thursday, January 27, 2011 and Friday, January 28, 2011. The meeting will be held from 10 a.m. to approximately 5 p.m. on January 27, 2011 and 9 a.m. to approximately 3 p.m. on January 28, 2011.

ADDRESSES: Department of Health and Human Services, Room 800, Hubert H. Humphrey Building, 200 Independence Avenue, SW., Washington, DC 20201.

FOR FURTHER INFORMATION CONTACT: Mr. Melvin Joppy, Committee Manager, Presidential Advisory Council on HIV/AIDS, Department of Health and Human Services, 200 Independence Avenue, Room 443H, Hubert H. Humphrey Building, Washington, DC 20201; (202) 690-5560. More detailed information about PACHA can be obtained by accessing the Council's Web site at http://www.pacha.gov.

SUPPLEMENTARY INFORMATION: PACHA was established by Executive Order 12963, dated June 14, 1995 as amended by Executive Order 13009, dated June 14, 1996. The Council provides advice, information, and recommendations to the Secretary regarding programs and policies to promote effective prevention and cure of HIV disease and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House Office on National AIDS Policy. The agenda and draft resolutions for the upcoming meeting will be posted on the Council's Web site http://www.pacha.gov.

Public attendance at the meeting is limited to space available. Individuals must provide a photo ID for entry into the building. Individuals who plan to attend and need special assistance, such as language interpretation or reasonable accommodations, should notify the designated contact person. Pre-registration for public attendance is advisable and can be accomplished by contacting the PACHA Committee Manager.

Members of the public will have the opportunity to provide comments on January 28, 2011. Pre-registration is required for public comment. Any individual who wishes to participate in the public comment session must contact: Melvin Joppy, Office of HIV/AIDS Policy, melvin.joppy@hhs.gov, by close of business Monday, January 24, 2011. Public comment will be limited to three minutes per speaker. Members of the public who wish to have printed materials distributed to PACHA members for discussion at the meeting are asked to provide, at a minimum, 30 copies of the materials to the PACHA Committee Manager no later than close of business Monday, January 24, 2011. Contact information for the PACHA Committee Manager is provided above.

Dated: December 28, 2010.
Christopher H. Bates,
Executive Director, Presidential Advisory on HIV/AIDS.

[FR Doc. 2011-119 Filed 1-6-11; 8:45 am]

BILLING CODE 4150-43-P